DEPARTMENT OF TRANSPORTATION

Federal Aviation Administration

RTCA Special Committee 202: Portable Electronic Devices

AGENCY: Federal Aviation Administration (FAA), DOT.

ACTION: Notice of RTCA Special Committee 202 Meeting: Portable Electronic Devices.

SUMMARY: The FAA is issuing this notice to advise the public of a meeting of FTCA Special Committee 202: Portable Electronic Devices.

DATES: The meeting will be held on July 1-14, 2006, from 9 a.m. to 4:30 p.m.

ADDRESSES: The meeting will be held at Conference Rooms, 1828 L Street, NW., Suite 805, Washington, DC.

FOR FURTHER INFORMATION CONTACT: RTCA Secretariat, 1828 L Street, NW., Suite 805, Washington, DC 20036-5133; Telephone (202) 833-9339; Web site http://www.rtca.org.

SUPPLEMENTARY INFORMATION: Pursuant to section 10(a)(2) of the Federal Advisory Committee Act (Pub. L. 92-463, 5 U.S.C., Appendix 2), notice is hereby given for a Special Committee 202 Portable Electronic Devices meeting. The agenda will include:

• July 10:

• Co-chair's Strategy Sessions with Working Group Leaders.

• Working Group Progress and Status Update/Plan for Terms of Reference (TOR) Compliance review.

• Overall Review of Plan and Schedule for Phase 2.

• Plan for Recommendation on Scoping of Picocell Assessment and Guidelines.

• WG1, WG2, and WG3 to develop recommendations to SC-202 plenary on Mask-Like Object, recommendations to FCC on emissions, and susceptibility limits required from the aircraft systems side.

• Working Groups Coordination.

• Time for all working Groups to meet together if required.

• Working Groups (WF) 1 through 5 meet.

• WG-1, PED Characterization, Garmin Room.

• WG-2, Aircraft Path Loss and Test, with WG-3, Aircraft Susceptibility, MacIntosh-NBAA-Hilton/ATA Room.

• WG-4, Risk Assessment, Mitigation, and process, Colson Board Room.

• WG-5, airplane Design and Certification Guidance, ARINC Conference Room.

• Chairmen's Strategy session with working Group Leaders;

• Coordinate Recommendations to Plenary: Phase 2 work plan, TOR compliance verification, and schedule.

• July 11 & 13:

• Opening Plenary Session (Welcome and Introductory Remarks, Review Agenda, Review/Approve previous Common Plenary Summary, Review Open Action Items).

• Results of RTCA PMC meeting June 27 on revisions to SC-202 Terms of Reference (TOR).

• Update from Regulatory Agencies (FAA, UK-CAA, Canadian TSB, FCC, or other).

• Update on Work of EUROCAE Working Group WG58 by Michel Crokaert of Airbus, WG58 Chairman.

• CEA PEDs Working Group Report and plans for ANSI accredited standard by Doug Johnson of CEA.

• Update on CTIA Task Force on cell phones on airborne aircraft by Paul Guckian of QUALCOMM.

• Presentation on Active RFID Transponder NASA test results analysis by Chuck LaBerge of Honeywell.

• Presentations on Operational Ultra-WideBand (UWB) Technologies (two separate presentations are planned to describe the underlying technologies).

• Break-out sessions for Working Groups and Focus Groups on Phase 2 document draft update recommendations:

• Working Groups (WG) 1 through 5 meet.

• WG-1, PED Characterization.

• WG-2, Aircraft Path Loss and Test, with WG-3, Aircraft Susceptibility.

• WG-4, Risk Assessment, Mitigation, and process.

• WG-5, Airplane Design and Certification Guidance.

• FCC Recommendations Focus Group.

• Picocell Focus Group.

• Plan for Access to Material and Organization of Data in Appendix CD for Phase 2 Document.

• Committee Consensus on Remaining Phase 2 Work Plan. TOR Compliance Plan, and Schedule for Completion.

• July 12:

• Co-chairs' Strategy Session with Working Group Leaders.

• WG Progress and Status Update/Plan for (TOR) Compliance Review.

• Overall Review of Plan and Schedule for Phase 2.

• Working Groups Coordination.

• Time for all Working Groups to meet, if required.

• Working Groups Sessions.

• WG-1, PEDs Characterization.

• WG-2, Aircraft Path Loss and Test with WG-3, Aircraft Susceptibility.

• WG-4, Risk Assessment, Mitigation, and Process.

• WG-5, Airplane Design and Certification Guidance.

• Focus Groups Sessions.

• FCC Recommendations Focus Group.

• Picocell Focus Group.

• Chairmen's Strategy Session with Working Group Leaders.

• Phase 2 Goals, Schedule, and Work Plan.

• July 13:

• Chairmen's Day 2 Opening Remarks and Process Check.

• Working Groups report out.

○ Each Working Group will cover the following:

• TOR Compliance Assessment.

• Recommendations for Plenary Consensus on FRAC Draft.

• Phase 2 Work Remaining: work plan and schedule for completion

• Working Group 1 (PEDs Characterization, Test and Evaluation).

• FCC Recommendations Focus Group.

• Working Group 2 (Aircraft Test and Analysis).

• Working Group 3 (Aircraft Systems Susceptibility).

• Picocell Focus Group.

• Working Group 4 (Risk Assessment, Practical Application, and Final Documentation).

• Working Group 5 (Recommended Guidance for Airplane Design and Certification).

• Plenary Consensus on Final Draft DO-294 Update to Final Review And Comment (FRAC):

• Working Groups' teleconference and meeting schedule, plan for Phase 2 work completion.

• Closing Session (Other Business, Date and Place of Upcoming Meetings (October 16-20, 2006, Sixteenth Plenary at RTCA; December 5-7, 2006 Seventeenth Plenary at RTCA, Closing Remarks, Adjourn).

• Break-out sessions for Working Groups Phase 2 work if required and time permits.

• July 14:

• Working Groups and Focus Groups complete action items and prepare and format document for Final Review And Comment (FRAC), as required.

Attendance is open to the interested public but limited to space availability. With the approval of the chairmen, members of the public may present oral statements at the meeting. Persons wishing to present statements or obtain information should contact the person listed at the FOR FURTHER INFORMATION CONTACT section. Members of the public may present a written statement to the committee at any time.

Issued in Washington, DC, on June 7, 2006.
Francisco Estrada C.,
RTCA Advisory Committee.

[FR Doc. 06-5635 Filed 6-22-06; 8:45am]

BILLING CODE 4910-13-M